DEPARTMENT OF JUSTICE

Office of Justice Programs

[OJP (NIJ) Docket No. 1512]

Draft NIJ Restraints Standard for Criminal Justice

AGENCY: National Institute of Justice, Office of Justice Programs, DOJ.

ACTION: Notice of Draft NIJ Restraints Standard for Criminal Justice and Certification Program Requirements.

SUMMARY: In an effort to obtain comments from interested parties, the U.S. Department of Justice, Office of Justice Programs, National Institute of Justice will make available to the general public two draft documents: (1) A draft standard entitled, “NIJ Restraints Standard for Criminal Justice” and (2) a draft companion document entitled, “NIJ Restraints Certification Program Requirements”. The opportunity to provide comments on these two documents is open to industry technical representatives, criminal justice agencies and organizations, research, development and scientific communities, and all other stakeholders and interested parties. Those individuals wishing to obtain and provide comments on the draft documents under consideration are directed to the following Web site: http://www.justnet.org.

DATES: Comments must be received on or before April 19, 2010.

FOR FURTHER INFORMATION CONTACT: Casandra Robinson, by telephone at 202-305-2596 [Note: this is not a tollfree telephone number], or by e-mail at casandra.robinson@usdoj.gov.

Kristina Rose,
Acting Director, National Institute of Justice.

[FR Doc. 2010-4434 Filed 3-2-10; 8:45 am]

BILLING CODE 4410-18-P